DEPARTMENT OF ENERGY

Federal Energy Regulatory Commission

[Docket No. EG02-156-000, et al.]

Mt. Camel Cogen, Inc., et al.; Electric Rate and Corporate Regulation Filings

June 20, 2002.

The following filings have been made with the Commission. The filings are listed in ascending order within each docket classification.

1. Mt. Carmel Cogen, Inc.

[Docket No. EG02-156-000]

Take notice that on June 18, 2002, Mt. Carmel Cogen, Inc. (Mt. Carmel), a Delaware corporation with its principal place of business in Mount Carmel, Northumberland County, Pennsylvania, filed with the Federal Energy Regulatory Commission (Commission), an application for determination of exempt wholesale generator status pursuant to Part 365 of the Commission's regulations.

Mt. Carmel owns and operates a 45-MW power generation facility located in Mount Carmel, Pennsylvania. (the Facility). Mt. Carmel states that electric energy produced from the Facility will be sold by Mt. Carmel to the wholesale power market in the PJM.

Comment Date: July 11, 2002.

2. Carthage Energy, LLC

[Docket No. ER99-2541-003]

Take notice that on June 14, 2002, Carthage Energy LLC (Carthage Energy) tendered a letter concerning its triennial market power review pursuant to an order issued by the Commission in Docket No. ER99-2541 on June 17, 1999 granting Carthage Energy market-based rate authorization.

Comment Date: July 8, 2002.

3. Cleco Power LLC, Cleco Marketing & Trading LLC, Cleco Evangeline LLC, Perryville Energy Partners, L.L.C., Acadia Power Partners LLC

[Docket Nos. ER99-3855-002, ER99-2300-004, ER99-2928-001, ER01-1397-002, and ER 02-1406-001]

Take notice that on June 17, 2002, Cleco Corporation, on behalf of its public utility affiliates, Cleco Power LLC, Cleco Marketing & Trading LLC, Cleco Evangeline LLC, Perryville Energy Partners, L.L.C., and Acadia Power Partners LLC, tendered for filing a combined notification of change in status and a three-year updated generation market analysis regarding the market-based rate schedules approved in the following orders: Cleco Power LLC, October 8, 1996, in Docket No. ER96-2677-000 for Cleco Power's predecessor-in-interest Central Louisiana Electric Company, Inc., Cleco Marketing & Trading LLC, 87 FERC 62,313 (1999); Cleco Evangeline LLC, 88 FERC 61,005 (1999); Perryville Energy Partners, L.L.C., Docket No. ER01-1397-000, issued May 3, 2001; Acadia Power Partners LLC, Docket No. ER02-1406-000, issued May 28, 2002.

Comment Date: July 8, 2002.

4. American Electric Power Service Corporation

[Docket Nos. ER00-2413-007]

Take notice that on June 17, 2002, American Electric Power Service Corporation, on behalf of the operating companies of the American Electric Power System (collectively AEP) filed proposed amendments to its Open Access Transmission Tariff in compliance with the Commission's May 16, 2002 Order in the above-referenced dockets.

AEP requests an effective date of June 1, 2002 for the proposed amendments. Copies of AEP's filing have been served upon AEP's transmission customers and the public service commissions of Arkansas, Indiana, Kentucky, Louisiana, Michigan, Ohio, Oklahoma, Tennessee, Texas, Virginia and West Virginia.

Comment Date: July 8, 2002.

5. BP Energy Company

[Docket No. ER00-3614-002]

Take notice that on June 17, 2002, BP Energy Company tendered for filing an updated market study in compliance with the Commission's Order in Cleco Trading & Marketing, LLC, et al., 87 FERC (CCH) ¶ 61, 311 (1999).

Comment Date: July 8, 2002.

6. Southern Company Services, Inc.

[Docket No. ER02-851-005]

Take notice that on May 1, 2002, Southern Company Services, Inc., acting as agent for Alabama Power Company, Georgia Power Company, Gulf Power Company, Mississippi Power Company, and Savannah Electric and Power Company (collectively Southern Companies) are filing informational data inputs to the formula rate adopted by Southern Companies and thereby establish updated charges for the use of their bulk transmission facilities under their Open Access Transmission Tariff, FERC Electric Tariff, Fourth Revised Volume No. 5.

Comment Date: July 11, 2002.

7. Midwest Independent Transmission System Operator, Inc.

[Docket No. ER02-1420-002]

Take notice that on June 17, 2002, the Southwestern Electric Power Company and Public Service Company of Oklahoma, operating companies of the American Electric Power System, filed a letter advising the Federal Energy Regulatory Commission (Commission) why it should not be ordered to join the Resulting Company as stated in its Order Conditionally Accepting Proposed Tariff Revisions and Revised Agreement and Conforming Regional Transmission Organization Status, 99 FERC ¶ 61,250 (2002).

A copy of the filing was served upon the parties on the official Commission service list in this docket.

Comment Date: July 8, 2002.

8. Central Illinois Generation

[Docket No. ER02-1688-001]

Take notice that on June 14, 2002, Central Illinois Generation (CIGI) tendered for filing with the Federal Energy Regulatory Commission (Commission) additional information to support CIGI's Application for Market-Based Rate Authority, Waivers and Acceptance of Power Supply and Interconnection Agreements filed on May 1, 2002 in Docket No. ER02-1688-000.

Comment Date: July 5, 2002.

9. Progress Energy On behalf of Carolina Power & Light Company

[Docket No. ER02-2101-000]

Take notice that on June 14, 2002, Carolina Power & Light Company (CP&L) tendered for filing a Service Agreement for Network Integration Transmission Service and a Network Operating Agreement with The City of Seneca, SC. Service to this Eligible Customer will be in accordance with the terms and conditions of the Open Access Transmission Tariff filed on behalf of CP&L.

CP&L is requesting an effective date of May 16, 2002 for this Service Agreement. A copy of the filing was served upon Seneca, the North Carolina Utilities Commission and the South Carolina Public Service Commission.

Comment Date: July 5, 2002.

10. Progress Energy On behalf of Carolina Power & Light Company

[Docket No. ER02-2101-000]

Take notice that on June 14, 2002, Carolina Power & Light Company (CP&L) tendered for filing a Service Agreement for Network Integration Transmission Service and a Network Operating Agreement with The City of Seneca, SC. Service to this Eligible Customer will be in accordance with the terms and conditions of the Open Access Transmission Tariff filed on behalf of CP&L.

CP&L is requesting an effective date of May 16, 2002 for this Service Agreement. A copy of the filing was served upon Seneca, the North Carolina Utilities Commission and the South Carolina Public Service Commission.

Comment Date: July 5, 2002.

11. Exelon Generation Company, LLC

[Docket No. ER02-2103-000]

Take notice that on June 17, 2002, Exelon Generation Company, LLC (Exelon Generation), submitted for filing a power sales service agreement between Exelon Generation and TXU Energy Trading Company, LP, under Exelon Generation's wholesale power sales tariff, FERC Electric Tariff Original Volume No. 2.

Comment Date: July 8, 2002.

12. DPL Energy

[Docket No. ER02-2104-000]

Take notice that on June 17, 2002, DPL Energy (DPLE), tendered for filing a long-term transaction agreement with The Dayton Power and Light Company.

Comment Date: July 8, 2002.

13. Arizona Public Service Company

[Docket No.ER02-2105-000]

Take notice that on June 17, 2002, Arizona Public Service Company (APS) tendered for filing a Service Agreement to provide point-to-point transmission service to Southwest Transmission Cooperative, Inc. under APS” Open Access Transmission Tariff.

A copy of this filing has been served on Southwest Transmission Cooperative, Inc. and the Arizona Corporation Commission.

Comment Date: July 8, 2002.

14. Arizona Public Service Company

[Docket No. ER02-2106-000]

Take notice that on June 17, 2002, Arizona Public Service Company (APS) tendered for filing additions to the Interconnection and Operating Agreements under its Open Access Transmission Tariff with Panda Gila River, L.P.

A copy of this filing has been served on Panda Gila River, L.P., the Western Electricity Coordinating Council and the Arizona Corporation Commission.

Comment Date: July 8, 2002.

15. Southern California Edison Company

[Docket No. ER02-2107-000]

Take notice that on June 17, 2002, Southern California Edison Company (SCE) filed an amendment to the Firm Transmission Service Agreement (Victorville-Lugo/Midway) between SCE and M-S-R Public Power Agency, First Revised Rate Schedule FERC No. 339. The amendment amends the rates to be charged to the MSR Public Power Agency (MSR). A copy of this amendment has been served on MSR and the California Public Utilities Commission.

Comment Date: July 8, 2002.

16. Orion Power MidWest, L.P.

[Docket No. ER02-2108-000]

Take notice that on June 17, 2002, Orion Power MidWest, L.P. (Orion Power MidWest) tendered for filing six copies of a First Revised Rate Schedule FERC No. 10 under Orion Power MidWest's market-based rate tariff, between Orion Power MidWest and Duquesne Light Company.

Comment Date: July 8, 2002.

17. Orion Power MidWest, L.P.

[Docket No. ER02-2109-000]

Take notice that on June 17, 2002, Orion Power MidWest, L.P. (Orion Power MidWest) tendered for filing an Original Service Agreement No. 5 under Orion Power MidWest's market-based rate tariff, between Orion Power MidWest and Duquesne Light Company.

Comment Date: July 8, 2002.

18. Florida Power Corporation

[Docket Nos. ER02-2110-000]

Take notice that on June 17, 2002, Florida Power Corporation (FPC) tendered for filing two notices of cancellation and two revised service agreement cover sheets (collectively, Cancellation Documents) to terminate two service agreements that were filed under previous versions of FPC's open-access transmission tariff, FERC Electric Tariff, Second Revised Volume No. 6. Specifically, FPC is terminating Service Agreement No. 7 between FPC and Tampa Electric Company (TECO), providing for Network Integration Transmission Service, that was filed and accepted under FPC's FERC Electric Tariff, Original Volume No. 6; and Service Agreement No. 52 between FPC and Seminole Electric Cooperative, Inc. (Seminole), providing for Network Contract Demand Transmission Service, that was filed and accepted under FPC's FERC Electric Tariff, First Revised Volume No. 6. The Cancellation Documents are being filed because FPC is no longer providing transmission service under the service agreements.

FPC respectfully requests that the Cancellation Documents become effective as of June 18, 2002, the day after filing. Copies of the filing were served upon the Florida Public Service Commission, TECO and Seminole.

Comment Date: July 8, 2002.

19. Public Service Company of New Mexico

[Docket No. ER02-2111-000]

Take notice that on June 14, 2002, Public Service Company of New Mexico (PNM) submitted for filing an executed copy of the Amended and Restated Agreement for Electric Service dated June 7, 2002 (Agreement), between PNM and The City of Gallup, New Mexico (Gallup). The Agreement which is being filed as Service Agreement No. 35 under PNM FERC Electric Tariff, First Revised Volume No. 3 (Power and Energy Sales Tariff), extends, modifies and supersedes in its entirety, the existing Contract for Electric Service between PNM and Gallup, and sets forth the terms and conditions under which PNM will provide all of the electric power and energy to Gallup (other than Gallup's entitlement to an allocation of federal hydro-electric power or the replacement thereof from Western Area Power Administration) to serve Gallup's McKinley County, New Mexico electric customers, from July 1, 2002 through June 30, 2013. PNM's filing is available for public inspection at its offices in Albuquerque, New Mexico.

Copies of this filing have been served upon Gallup, the New Mexico Public Regulation Commission and the New Mexico Attorney General.

Comment Date: July 5, 2002.

20. Kansas City Power & Light Company

[Docket No. ER02-2112-000]

Take notice that on June 17, 2002, Kansas City Power & Light Company (KCPL) tendered for filing with the Federal Energy Regulatory Commission (Commission) a Facilities Agreement, dated May 3, 2002 between Kansas City Power & Light Company(KCPL) and the city of Baldwin City, Kansas. KCPL proposes an effective date of July 1, 2002 and requests any necessary waiver of the Commission's notice requirement.

Comment Date: July 8, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-16247 Filed 6-26-02; 8:45 am]

BILLING CODE 6717-01-P